DEPARTMENT OF ENERGY

Federal Energy Regulatory Commission

[Docket No. CP04-54-000]

ANR Storage Company; Notice of Application

January 26, 2004.

Take notice that on January 16, 2004, ANR Storage Company (“ANR Storage”), Nine E Greenway Plaza, Houston, Texas 77046, filed in Docket No. CP04-54-000, an abbreviated application pursuant to Section 7(b) of the Natural Gas Act (“NGA”), 15 U.S.C. 717f(b), as amended, and the Regulations of the Federal Energy Regulatory Commission's (“Commission”) 18 CFR sections 157.5 et seq., Subpart A, requesting that the Commission issue an order authorizing ANR Storage to abandon a storage service performed by ANR Storage under its Rate Schedule X-11 on behalf of Aquila Inc., successor in interest to Inter City Gas Corporation.

Any questions regarding this application should be directed to Jacques A. Hodges, Attorney, Nine E Greenway Plaza, Houston, Texas 77046, (832) 676-5509.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E4-167 Filed 2-2-04; 8:45 am]

BILLING CODE 6717-01-P